DEPARTMENT OF COMMERCE

Foreign-Trade Zones Board

[B-05-2019]

Foreign-Trade Zone (FTZ) 93—Raleigh/Durham, North Carolina; Authorization of Production Activity; GlaxoSmithKline, PLC (Pharmaceutical Products), Zebulon, North Carolina

On February 13, 2019, GlaxoSmithKline, PLC, submitted a notification of proposed production activity to the FTZ Board for its facility within FTZ 93, in Zebulon, North Carolina.

The notification was processed in accordance with the regulations of the FTZ Board (15 CFR part 400), including notice in the Federal Register inviting public comment (84 FR 6128, February 26, 2019). On June 13, 2019, the applicant was notified of the FTZ Board's decision that no further review of the activity is warranted at this time. The production activity described in the notification was authorized, subject to the FTZ Act and the FTZ Board's regulations, including Section 400.14.

Dated: June 13, 2019.
Andrew McGilvray,
Executive Secretary.

[FR Doc. 2019-12990 Filed 6-18-19; 8:45 am]

BILLING CODE 3510-DS-P